DEPARTMENT OF THE TREASURY

Alcohol and Tobacco Tax and Trade Bureau

27 CFR Part 19

[Docket No. TTB-2011-0010; Notice No. 124A; Re: Notice No. 124]

RIN 1513-AB89

Revisions to Distilled Spirits Plant Operations Reports and Regulations; Comment Period Extension

AGENCY: Alcohol and Tobacco Tax and Trade Bureau, Treasury.

ACTION: Notice of proposed rulemaking; extension of comment period.

SUMMARY: The Alcohol and Tobacco Tax and Trade Bureau is extending the comment period for Notice No. 124, Revisions to Distilled Spirits Plant Operations Reports and Regulations, a notice of proposed rulemaking published in the Federal Register on December 5, 2011. TTB is taking this action in response to a request from a distilled spirits industry association.

DATES: Written comments on Notice No. 124 are now due on or before March 5, 2012.

ADDRESSES: You may send comments on Notice No. 124 to one of the following addresses:

• http://www.regulations.gov: To submit comments via the Internet, use the comment form for Notice No. 124 as posted within Docket No. TTB-2011-0010 on “Regulations.gov,” the Federal e-rulemaking portal;

• U.S. Mail: Director, Regulations and Rulings Division, Alcohol and Tobacco Tax and Trade Bureau, P.O. Box 14412, Washington, DC 20044-4412.

• Hand Delivery/Courier in Lieu of Mail: Alcohol and Tobacco Tax and Trade Bureau, 1310 G Street NW., Suite 200-E, Washington, DC 20005.

See the Public Participation section of this notice for specific instructions and requirements for submitting comments, and for information on how to request a public hearing.

You may view copies of all published notices, the proposed two new report forms, and any public comments associated with the proposal outlined in Notice No. 124 within Docket No. TTB-2011-0010 at http://www.regulations.gov. A link to the Regulations.gov comment form for proposal is posted on the TTB Web site at http://www.ttb.gov/regulations_laws/all_rulemaking.shtml under Notice No. 124. You also may view copies of all documents and comments associated with Notice No. 124 by appointment at the TTB Information Resource Center, 1310 G Street NW., Washington, DC 20220. Please call (202) 453-2270 to make an appointment.

FOR FURTHER INFORMATION CONTACT: Rita D. Butler, Regulations and Rulings Division, Alcohol and Tobacco Tax and Trade Bureau, at (202) 453-1039, extension 101, or rita.butler@ttb.gov.

SUPPLEMENTARY INFORMATION: In Notice No. 124, the Alcohol and Tobacco Tax and Trade Bureau (TTB) proposes to replace the current four report forms used by distilled spirits plants to report their operations with two new report forms that would be submitted on a monthly or quarterly basis. The proposal would streamline the reporting process and would result in savings for the industry and for TTB by significantly reducing the number of reports that must be completed and filed by industry members and processed by TTB.

On February 2, 2012, TTB received an email from the Distilled Spirits Council of the United States (DISCUS) requesting additional time to prepare its comment on Notice No. 124. The email stated:

This additional time will allow us to further collate comments about the technical aspects for the data entries pertaining to the proposed reporting forms. Similarly, this additional time also will afford a better opportunity to respond to TTB's request about the length of time needed by industry members to transition their business procedures so as to comply with the proposed reporting requirements.

In response to that request, TTB is extending the comment period for Notice No. 124 for an additional 30 days. Therefore, comments on Notice No. 124 are now due on or before March 5, 2012.

Drafting Information

Michael D. Hoover of the Regulations and Rulings Division drafted this notice.

Signed: February 2, 2012.
John J. Manfreda,
Administrator.

[FR Doc. 2012-2809 Filed 2-3-12; 11:15 am]

BILLING CODE 4810-31-P